NATIONAL FOUNDATION ON THE ARTS AND THE HUMANITIES

Meetings of Humanities Panel

AGENCY: National Endowment for the Humanities.

ACTION: Notice of meetings.

SUMMARY: The National Endowment for the Humanities will hold twenty-three meetings of the Humanities Panel, a federal advisory committee, during April, 2017. The purpose of the meetings is for panel review, discussion, evaluation, and recommendation of applications for financial assistance under the National Foundation on the Arts and Humanities Act of 1965.

DATES: See Supplementary Information section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: April 3, 2017. This meeting will discuss applications on the subjects of Arts and Culture, for the Public Humanities Projects—Community Conversations grant program, submitted to the Division of Public Programs.

2. Date: April 4, 2017. This meeting will discuss applications on the subjects of Libraries, Archives, and Paper Collections, for the Sustaining Cultural Heritage Collections grant program, submitted to the Division of Preservation and Access.

3. Date: April 5, 2017. This meeting will discuss applications on the subjects of U.S. History and Civics, for the Public Humanities Projects—Community Conversations grant program, submitted to the Division of Public Programs.

4. Date: April 6, 2017. This meeting will discuss applications for the National Digital Newspaper Program, submitted to the Division of Preservation and Access.

5. Date: April 6, 2017. This meeting will discuss applications on the subjects of History and Culture, for Media Projects: Production Grants, submitted to the Division of Public Programs.

6. Date: April 6, 2017. This meeting will discuss applications for the National Digital Newspaper Program, submitted to the Division of Preservation and Access.

7. Date: April 11, 2017. This meeting will discuss applications for the Creating Humanities Communities grant program, submitted to the Division of Challenge Grants.

8. Date: April 13, 2017. This meeting will discuss applications for the Creating Humanities Communities grant program, submitted to the Division of Challenge Grants.

9. Date: April 19, 2017. This meeting will discuss applications for the Creating Humanities Communities grant program, submitted to the Division of Challenge Grants.

10. Date: April 19, 2017. This meeting will discuss applications on the subject of American Studies, for the Public Humanities Projects—Exhibitions grant program (planning grants), submitted to the Division of Public Programs.

11. Date: April 20, 2017. This meeting will discuss applications on the subject of History, for Media Projects: Production Grants, submitted to the Division of Public Programs.

12. Date: April 20, 2017. This meeting will discuss applications for the Institutes for College and University Teachers grant program, submitted to the Division of Education Programs.

13. Date: April 21, 2017. This meeting will discuss applications for the Institutes for College and University Teachers grant program, submitted to the Division of Education Programs.

14. Date: April 21, 2017. This meeting will discuss applications for the Creating Humanities Communities grant program, submitted to the Division of Challenge Grants.

15. Date: April 24, 2017. This meeting will discuss applications for the Seminars for College Teachers grant program, submitted to the Division of Education Programs.

16. Date: April 25, 2017. This meeting will discuss applications for the Institutes for School Teachers grant program, submitted to the Division of Education Programs.

17. Date: April 25, 2017. This meeting will discuss applications for the Creating Humanities Communities grant program, submitted to the Division of Challenge Grants.

18. Date: April 25, 2017. This meeting will discuss applications on the subjects of Digital Collections and Archives, for Digital Humanities Advancement Grants, submitted to the Office of Digital Humanities.

19. Date: April 26, 2017. This meeting will discuss applications on the subjects of Media and Writing Studies, Creative and Performing Arts, for Digital Humanities Advancement Grants, submitted to the Office of Digital Humanities.

20. Date: April 26, 2017. This meeting will discuss applications for the Seminars for School Teachers grant program, submitted to the Division of Education Programs.

21. Date: April 27, 2017. This meeting will discuss applications for the Institutes for School Teachers grant program, submitted to the Division of Education Programs.

22. Date: April 27, 2017. This meeting will discuss applications for the Creating Humanities Communities grant program, submitted to the Division of Challenge Grants.

23. Date: April 27, 2017. This meeting will discuss applications on the subjects of Geospatial and Visualization, for Digital Humanities Advancement Grants, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: March 13, 2017.
Elizabeth Voyatzis,
Committee Management Officer.

[FR Doc. 2017-05237 Filed 3-15-17; 8:45 am]

BILLING CODE 7536-01-P